POSTAL SERVICE

39 CFR Part 121

Service Standards for Market-Dominant Mail Products; Correction

AGENCY: Postal Service™.

ACTION: Correcting amendments.

SUMMARY: The Postal Service published a final rule in the Federal Register on November 30, 2022, regarding the revisions to service standards for market-dominant mail products, which became effective January 22, 2023. That rule added a service standard for USPS Connect™ Local Mail to the set of service standards for First-Class Mail set forth in the Postal Service's regulations. It inadvertently removed tables that were contained in an appendix. This document serves to correct the error by adding back the tables.

DATES: Effective August 26, 2024.

FOR FURTHER INFORMATION CONTACT: Andrew Pigott at 202-268-4031.

SUPPLEMENTARY INFORMATION: A final rule in the Federal Register, on November 30, 2022, at 87 FR 73468, regarding the revisions to Service Standards for Market-Dominant Mail Products, which took effect on January 22, 2023 contained errors. It added a service standard for USPS Connect™ Local Mail to the set of service standards for First-Class Mail set forth in the Postal Service's regulations. The rule inadvertently removed tables 3 and 4 that were contained in appendix A to part 121, which were included in the last revision to 39 CFR part 121, published in the Federal Register on August 11, 2021, at 86 FR 43941. This document serves to correct the error by adding tables 3 and 4 back into appendix A to part 121.

List of Subjects in 39 CFR Part 121

Administrative practice and procedure, Postal Service.

Accordingly, 39 CFR part 121 is corrected by making the following correcting amendment:

PART 121—SERVICE STANDARDS FOR MARKET-DOMINANT MAIL PRODUCTS

1. The authority citation for part 121 continues to read as follows:

Authority: 39 U.S.C. 101, 401, 403, 404, 1001, 3691.

2. In appendix A to part 121, add tables 3 and 4 to read as follows:

Appendix A to Part 121—Tables Depicting Service Standard Day Ranges

* * * * *

Table 3—Destination Entry Service Standard Day Ranges for Mail to the Contiguous 48 States and the District of Columbia
Mail class | Contiguous United States: Destination entry (at appropriate facility): DDU (days) | Contiguous United States: Destination entry (at appropriate facility): SCF (days) | Contiguous United States: Destination entry (at appropriate facility): ADC (days) | Contiguous United States: Destination entry (at appropriate facility): NDC (days)
Periodicals | 1 | 1 | 1-2 | 2-3
USPS Marketing Mail | 2 | 3-4 |  | 5
Package Services | 1 | 2 |  | 3

Table 4—Destination Entry Service Standard Day Ranges for Mail to Non-Contiguous States and Territories
Mail class | Destination entry (at appropriate facility): DDU (days) | Destination entry (at appropriate facility): SCF (days): Alaska | Destination entry (at appropriate facility): SCF (days): Hawaii, Guam, MP, & AS | Destination entry (at appropriate facility): SCF (days): PR & USVI | Destination entry (at appropriate facility): ADC (days): Alaska | Destination entry (at appropriate facility): ADC (days): Hawaii, Guam, MP, & AS | Destination entry (at appropriate facility): ADC (days): PR & USVI | Destination entry (at appropriate facility): NDC (days): Alaska | Destination entry (at appropriate facility): NDC (days): Hawaii, Guam, MP, & AS | Destination entry (at appropriate facility): NDC (days): PR & USVI
Periodicals | 1 | 1-3 | 1 | 1-3 | 1-4 (AK) 11 (JNU) 11 (KTN). | 1 (HI) 2 (GU) | 1-4 | 10-11 | 10 | 8-10
USPS Marketing Mail | 2 | 3-4 | 3-5 | 3-5 |  |  |  | 14 | 13 | 12
Package Services | 1 | 2 | 2-3 | 2-3 |  |  |  | 12 | 11 | 11
AK = Alaska 3-digit ZIP Codes 995-997; JNU = Juneau AK 3-digit ZIP Code 998; KTN = Ketchikan AK 3-digit ZIP Code 999; HI = Hawaii 3-digit ZIP Codes 967 and 968; GU = Guam 3-digit ZIP Code 969.

Christopher Doyle,
Attorney, Ethics and Legal Compliance.

[FR Doc. 2024-18969 Filed 8-23-24; 8:45 am]

BILLING CODE 7710-12-P